DEPARTMENT OF HOMELAND SECURITY

Transportation Security Administration

49 CFR Part 1546

[Docket No. TSA-2004-17131]

RIN 1652-AA38

Aircraft Repair Station Security

AGENCY: Transportation Security Administration (TSA), DHS.

ACTION: Notice of public meeting and request for comments.

SUMMARY: TSA prescribes and enforces transportation security regulations, including rules relating to domestic and certain foreign aviation operations. Recent legislation directs TSA to issue a new regulation concerning security at foreign and domestic aircraft repair stations. In order to develop an effective and comprehensive regulation, TSA believes it is important to hear from the stakeholders and other interested parties early in the rulemaking process to determine what the current conditions are and how security issues can be addressed quickly. Therefore, TSA is scheduling a public meeting to discuss the new requirement with air carriers, airports, repair facility operators and other stakeholders, and invites comments from the participants. The public meeting will be held on February 27, 2004, at 1 p.m.

DATES: The public meeting will be on February 27, 2004, in Arlington, VA. The meeting will begin at 1 p.m. Persons not able to attend a meeting are invited to provide written comments, which must be received by March 29, 2004.

ADDRESSES: The public meeting will be held at the Drug Enforcement Agency, 700 Army Navy Drive, 1st Floor Auditorium, Arlington, Virginia 22202.

Persons unable to attend the meeting may submit comments, identified by the TSA docket number to this rulemaking, using any one of the following methods:

Comments Filed Electronically: You may submit comments through the docket Web site at http://dms.dot.gov. Please be aware that anyone is able to search the electronic form of all comments received into any of our dockets by the name of the individual submitting the comment (or signing the comment, if submitted on behalf of an association, business, labor union, etc.). You may review the applicable Privacy Act Statement published in the Federal Register on April 11, 2000 (65 FR 19477), or you may visit http://dms.dot.gov.

You also may submit comments through the Federal eRulemaking portal at http://www.regulations.gov.

Comments Submitted by Mail, Fax, or In Person: Address or deliver your written, signed comments to the Docket Management System, U.S. Department of Transportation, Room Plaza 401, 400 Seventh Street, SW., Washington, DC 20590-0001; fax: 202-493-2251.

Reviewing Comments in the Docket: You may review the public docket containing comments in person in the Dockets Office between 9 a.m. and 5 p.m., Monday through Friday, except Federal holidays. The Dockets Office is located on the plaza level of the NASSIF Building at the Department of Transportation address above. Also, you may review public dockets on the Internet at http://dms.dot.gov.

See SUPPLEMENTARY INFORMATION for format and other information about comment submissions.

FOR FURTHER INFORMATION CONTACT: Roger Shoemaker, Office of Transportation Security Policy, Transportation Security Administration Headquarters, East Building, Floor 7, TSA-9, 601 South 12th Street, Arlington, VA 22202; telephone: (571) 227-3662; fax: (571) 227-2594; e-mail: Roger.Shoemaker@dhs.gov.

SUPPLEMENTARY INFORMATION:

Comments Invited

TSA invites interested persons to participate in the public meeting or by submitting written comments, data, or views. We invite comments relating to any aspect of aircraft repair station security and operation. The areas in which TSA seeks information and comment from the industry at the public meeting are listed below in the “Specific Issues for Discussion” section. See ADDRESSES above for information on where to submit comments.

With each comment, please include your name and address, identify the docket number at the beginning of your comments, and give the reason for each comment. The most helpful comments reference a specific topic, explain the reason for any recommendation, and include supporting data. You may submit comments and material electronically, in person, by mail, or fax as provided under ADDRESSES, but please submit your comments and material by only one means. If you submit comments by mail or delivery, submit them in two copies, in an unbound format, no larger than 8.5 by 11 inches, suitable for copying and electronic filing.

If you want the TSA to acknowledge receipt of your comments, include with your comments a self-addressed, stamped postcard on which the docket number appears. We will stamp the date on the postcard and mail it to you.

Except for comments containing confidential information and SSI, we will file in the public docket all comments we receive, as well as a report summarizing each substantive public contact with TSA personnel concerning this rulemaking. The docket is available for public inspection before and after the comment closing date.

We will consider all comments we receive on or before the closing date for comments. We will consider comments filed late to the extent practicable.

Availability of Rulemaking Document

You can get an electronic copy using the Internet by—

(1) Searching the Department of Transportation's electronic Docket Management System (DMS) Web page (http://dms.dot.gov/search);

(2) Accessing the Government Printing Office's Web page at http://www.access.gpo.gov/su_docs/aces/aces140.html; or

(3) Visiting the TSA's Law and Policy Web page at http://www.tsa.dot.gov/public/index.jsp.

In addition, copies are available by writing or calling the individual in the FOR FURTHER INFORMATION CONTACT section. Make sure to identify the docket number of this rulemaking.

Background

The terrorist attacks of September 11, 2001, resulted in catastrophic human casualties and property damage. In response to those attacks, Congress passed the Aviation and Transportation Security Act (ATSA), which established the Transportation Security Administration (TSA).¹ TSA was created as an agency within the Department of Transportation (DOT), operating under the direction of the Under Secretary of Transportation for Security. As of March 1, 2003, TSA became an agency of the Department of Homeland Security (DHS), and the Under Secretary is now the Administrator

¹ 1 Pub. L. 107-71, November 19, 2001, 115 Stat. 597.

As part of its aviation security mission, TSA prescribes and enforces aviation security regulations for domestic aircraft operators (49 CFR part 1544), domestic airport operators (49 CFR part 1542), foreign air carriers that operate to, from, within, and overfly the United States (49 CFR part 1546), indirect air carriers (49 CFR part 1548), and general operating and flight rules (49 CFR part 1550).

On December 12, 2003, the President signed into law the Vision 100—Century of Aviation Reauthorization Act.² Section 611 of the Act requires TSA to “issue final regulations to ensure the security of foreign and domestic aircraft repair stations” within 240 days, that is by August 8, 2004. There are approximately 650 foreign repair stations that are certified by the Federal Aviation Administration (FAA) to repair aircraft that enter U.S. airspace, and approximately 4500 domestic repair facilities. These repair stations vary greatly in size, type of repair completed, workforce, and location (such as proximity to an airport). There are small shops in industrial parks that may repair aircraft radios, and there are large stations that complete major aircraft overhauls. Because the station characteristics vary so greatly, TSA believes the corresponding security threat and existing security measures also vary widely.

² 2 Pub. L. 108-176, December 12, 2003, 117 Stat. 2490.

TSA will prepare a notice of proposed rulemaking after the public meeting, provide an opportunity for public comment, and then issue a final rule. The information presented at the public meeting should greatly assist TSA in developing proposed standards for securtiy systems at foreign and domestic repair stations. Therefore, TSA looks forward to meeting with the key stakeholders on this topic and exchanging information.

Specific Issues for Discussion

There are several areas in which TSA seeks information and comment from the industry at the public meeting, which are listed below. These key issues are intended to help focus public comments on subjects that TSA must explore in order to complete its review of the security of aircraft repair stations. The comments at the meeting need not be limited to these issues, and TSA invites comments on any other aspect of aircraft repair station security and operation.

(1) What security measures are currently in place at foreign and domestic aircraft repair stations? Do you use access control, perimeter security, or identification media? What kind of employee background checks, if any, are conducted on employees prior to hiring, or periodically?

(2) What security vulnerabilities do you believe currently exist at foreign and domestic repair stations?

(3) What minimum standards should be in place to prevent unauthorized access, tampering, and other security breeches at foreign and domestic aircraft repair stations?

(4) What does your current security system cost?

(5) Should TSA regulations be tailored to the type of rating the repair station holds, number of employees, proximity to an airport, number of repairs completed, or other characteristics? If so, please explain how that could be accomplished.

(6) Should aircraft operators play a role in ensuring that repair facilities maintain a secure workplace? If so, what should aircraft operators do to enhance repair station security?

(7) Have you experienced security breeches at your facility? If so, what measures were instituted to prevent recurrence?

Participation at the Meeting

Anyone wishing to present an oral statement at the meeting should provide a written request to TSA no later than February 20, 2004. Such requests should be submitted to Roger Shoemaker, as listed previously in the FOR FURTHER INFORMATION CONTACT section. In addition, anyone who wishes to present a statement at the public meeting should submit a written version of the oral remarks and supporting documentation for any of the conclusions reached. Speakers should plan to talk for no more than 10 minutes. TSA will prepare an agenda of speakers that will be available at the meeting. The names of those individuals whose requests to present oral statements are received after the date specified above may not appear on the written agenda. To accommodate as many speakers as possible, the amount of time allocated to each speaker may be less than the amount of time requested.

Public Meeting Procedures

TSA will use the following procedures to facilitate the meeting:

(1) There will be no admission fee or other charge to attend or to participate in the meeting. The meeting will be open to all persons who are scheduled to present statements or who register between 12:30 and 1 on the day of the meeting. TSA will make every effort to accommodate all persons who wish to participate, but admission will be subject to availability of space in the meeting room. The meeting may adjourn early if scheduled speakers complete their statements in less time than is scheduled for the meeting.

(2) An individual, whether speaking in a personal or a representative capacity on behalf of an organization, may be limited to a 10-minute statement. If possible, we will notify the speaker if additional time is available.

(3) TSA will try to accommodate all speakers. If the available time does not permit this, speakers generally will be scheduled on a first-come, first-served basis. However, TSA reserves the right to exclude some speakers if necessary to present a balance of viewpoints and issues.

(4) Sign and oral interpretation can be made available at the meeting, as well as an assistive listening device, if requested 10 calendar days before the meeting.

(5) Representatives of TSA will preside over the meeting. A panel of TSA personnel involved in this issue will be present.

(6) The meeting will be recorded by a court reporter. A transcript of the meeting and any material accepted by TSA during the meeting will be included in the public docket. Any person who is interested in purchasing a copy of the transcript should contact the court reporter directly.

(7) TSA will review and consider all material presented by participants at the meeting. Position papers or material presenting views or arguments related to the security of foreign and domestic aircraft repair stations may be accepted at the discretion of the presiding officer and subsequently placed in the public docket. TSA asks that persons participating in the meeting provide six copies of all materials to be presented for distribution to the TSA representatives; other copies may be provided to the audience at the discretion of the participant.

(8) Statements made by TSA representatives are intended to facilitate discussion of the issues or to clarify issues. Any statement made during the meeting by a TSA representative is not intended to be, and should not be construed as, a position of TSA.

(9) The meeting is designed to solicit public views and gather additional information on the security of aircraft repair stations. Therefore, the meeting will be conducted in an informal, non-adversarial manner. No individual will be subject to cross-examination by any other participant; however, TSA representatives may ask questions to clarify a statement and to ensure a complete and accurate record.

Issued in Arlington, Virginia, on February 18, 2004.
Thomas R. Blank,
Assistant Administrator for Transportation Security Policy.

[FR Doc. 04-4051 Filed 2-20-04; 10:52 am]

BILLING CODE 4910-62-P